DEPARTMENT OF TRANSPORTATION

Federal Transit Administration

FTA Supplemental Fiscal Year 2010 Apportionments, Allocations, and Corrections

AGENCY: Federal Transit Administration (FTA), DOT.

ACTION: Notice.

SUMMARY: The Hiring Incentives to Restore Employment Act, (Pub. L. 111-147), signed into the law by President Obama on March 18, 2010, authorized funds for all of the surface transportation programs of the U.S. Department of Transportation (DOT) for the remainder of the Fiscal Year (FY) ending September 30, 2010, and the first quarter of FY 2011. This Notice supplements the February 18, 2009 Federal Register notice to apportion the full amount of FY 2010 formula funds. In addition, this Notice revises the Job Access and Reverse Commute (JARC) and Alternatives Analysis program carryover tables, Small Transit Intensive Cities (STIC) performance data and Apportionments table, and Bus and Bus Facilities Extensions and Reprogramming table, and allocates the remaining FY 2010 funds made available to congressionally designated projects under the Alternative Analysis program.

FOR FURTHER INFORMATION CONTACT: For general information about this notice contact Henrika Buchanan-Smith, Office of Program Management, at (202) 366-2053. Please contact the appropriate FTA regional or metropolitan office for any specific requests for information or technical assistance. The appendix at the end of this notice includes contact information for FTA regional and metropolitan offices.

SUPPLEMENTARY INFORMATION:

Table of Contents

I. Overview

II. FTA Program Funding Tables

1. FTA Revised FY 2010 Appropriations and Apportionments for Grant Programs

2. FTA Revised FY 2010 Metropolitan Planning Program and Statewide Planning and Research Program Apportionments

3. FTA Revised FY 2010 Section 5307 and Section 5340 Urbanized Area Apportionments

4. FTA FY 2010 Section 5307 Apportionment Formula

5. FTA Revised FY 2010 Formula Programs Apportionments Data Unit Values

6. FTA Revised FY 2010 Small Transit Intensive Cities Performance Data and Apportionments

8. FTA Revised FY 2010 Section 5309 Fixed Guideway Modernization Apportionments

9. FTA Fixed Guideway Modernization Formula

10-B. FTA Revised Section 5309 Bus and Bus-Related Facilities Extensions and Reprogrammed Allocations

13. FTA Revised FY 2010 Special Needs For Elderly Individuals and Individuals With Disabilities Apportionments

14. FTA Revised FY 2010 Section 5311 and Section 5340 Nonurbanized Area Formula Apportionments, and Rural Transportation Assistance Program (RTAP) Allocations

16. FTA Revised FY 2010 Section 5316 Job Access and Reverse Commute (JARC) Apportionments

17. FTA Revised Job Access and Reverse Commute (JARC) Carryover

18. FTA Revised FY 2010 Section 5317 New Freedom Apportionments

19. FTA Revised FY 2010 Section 5339 Alternative Analysis Allocations

20. FTA Revised Alternative Analysis Carryover

Appendix

I. Overview

FTA's current authorization, the Safe, Accountable, Flexible, Efficient, Transportation Equity Act: A Legacy for Users (SAFETEA-LU), expired September 30, 2009. Since that time, Congress has enacted the Hiring Incentives to Restore Employment Act, (Pub. L. 111-147), hereinafter “HIRE Act, 2010,” which continues the authorization of the Federal transit programs of DOT through December 31, 2010. Additionally, Division A of the Transportation, Housing and Urban Development, and Related Agencies Appropriations Act 2010 (Pub. L. 111-68), which was signed into law by President Obama on December 16, 2009, appropriated funds for FTA funded programs for FY 2010. This Notice provides the remaining formula funds, the full year allocations of Alternative Analysis program funds, and corrections to the Alternatives Analysis and JARC program carryover tables, Bus and Bus Facilities Extensions and Reprogramming table, and STIC performance data and Apportionments table.

II. FTA Program Funding Based on the Appropriations Act, 2010 and Hire Act, 2010

FTA's resources are provided in both appropriations and authorization law. For FY 2010, the Transportation and Housing and Urban Development Appropriations Act (Pub. L. 111-117) and Hiring Incentives to Restore Employment Act (HIRE) Act (Pub. L. 111-147) together included a total of $10.7 billion. While the appropriations act provided full-year General Fund budget authority for certain FTA programs, the HIRE Act built on previously enacted partial-year extensions of SAFETEA-LU authorities, including the provision of contract authority from the Mass Transit Account of the Highway Trust Fund. Specifically, it provided contract authority for the Formula and Bus Programs for the remainder of FY 2010, as well as contract authority through December 31st of 2010 (the first quarter of FY 2011). Table 1 of this document shows the total amount of FY 2010 funding that is available for FTA's grant programs contract authority for the first quarter of FY 2011 will be apportioned after October 1, 2010. See the February 18, 2008 Federal Register notice for detailed information on FTA programs.

Note: The HIRE Act provided contract authority at levels equal to the FY 2009 authorized levels in SAFETEA-LU. However, the FY 2010 Appropriations Act contains an obligation limitation for the Formula and Bus programs that is slightly lower than the FY 2010 authorized contract authority. Funding levels made available under this Notice are based on the obligation limitation contained in FTA's FY 2010 appropriations act.

Issued in Washington, DC, May 7, 2010.
Peter Rogoff,
Administrator.

Appendix A

FTA Regional and Metropolitan Offices
Richard H. Doyle, Regional Administrator, Region 1-Boston, Kendall Square, 55 Broadway, Suite 920, Cambridge, MA 02142-1093, Tel. 617-494-2055 | Robert C. Patrick, Regional Administrator, Region 6-Ft. Worth, 819 Taylor Street, Room 8A36, Ft. Worth, TX 76102, Tel. 817-978-0550.
States served: Connecticut, Maine, Massachusetts, New Hampshire, Rhode, Island, and Vermont | States served: Arkansas, Louisiana, Oklahoma, New Mexico and Texas.
Brigid Hynes-Cherin, Regional Administrator, Region 2-New York, One Bowling Green, Room 429, New York, NY 10004-1415, Tel. 212-668-2170 | Mokhtee Ahmad, Regional Administrator, Region 7-Kansas City, MO, 901 Locust Street, Room 404, Kansas City, MO 64106, Tel. 816-329-3920.
States served: New Jersey, New York. | States served: Iowa, Kansas, Missouri, and Nebraska.
New York Metropolitan Office, Region 2-New York, One Bowling Green, Room 428, New York, NY 10004-1415, Tel. 212-668-2202.
Letitia Thompson, Regional Administrator, Region 3-Philadelphia, 1760 Market Street, Suite 500, Philadelphia, PA 19103-4124, Tel. 215-656-7100 | Terry Rosapep, Regional Administrator, Region 8-Denver, 12300 West Dakota Ave., Suite 310, Lakewood, CO 80228-2583, Tel. 720-963-3300.
States served: Delaware, Maryland,, Pennsylvania, Virginia, West Virginia, and District of Columbia | States served: Colorado, Montana, North Dakota, South Dakota, Utah, and, Wyoming.
Philadelphia Metropolitan Office, Region 3-Philadelphia, 1760 Market Street, Suite 500, Philadelphia, PA 19103-4124, Tel. 215-656-7070.
Washington, DC Metropolitan Office, 1990 K Street, NW., Room 510, Washington, DC 20006, Tel. 202-219-3562.
Yvette Taylor, Regional Administrator, Region 4-Atlanta, 230 Peachtree Street, NW., Suite 800, Atlanta, GA 30303, Tel. 404-865-5600 | Leslie T. Rogers, Regional Administrator, Region 9-San Francisco, 201 Mission Street, Room 1650, San Francisco, CA 94105-1926, Tel. 415-744-3133.
States served: Alabama, Florida, Georgia, Kentucky, Mississippi, North, Carolina, Puerto Rico, South Carolina, Tennessee, and Virgin Islands | States served: American Samoa, Arizona, California, Guam, Hawaii, Nevada, and the Northern Mariana, Islands.
| Los Angeles Metropolitan Office, Region 9-Los Angeles, 888 S. Figueroa Street, Suite 1850, Los Angeles, CA 90017-1850, Tel. 213-202-3952.
Marisol Simon, Regional Administrator, Region 5-Chicago, 200 West Adams Street, Suite 320, Chicago, IL 60606, Tel. 312-353-2789 | Rick Krochalis, Regional Administrator, Region 10-Seattle, Jackson Federal Building, 915 Second Avenue, Suite 3142, Seattle, WA 98174-1002, Tel. 206-220-7954.
States served: Illinois, Indiana, Michigan, Minnesota, Ohio, and Wisconsin | States served: Alaska, Idaho, Oregon, and Washington.
Chicago Metropolitan Office, Region 5-Chicago, 200 West Adams Street, Suite 320, Chicago, IL 60606, Tel. 312-353-2789.

BILLING CODE 4910-57-P

[FR Doc. 2010-11479 Filed 5-12-10; 8:45 am]

BILLING CODE 4910-57-C